DEPARTMENT OF TRANSPORTATION

Federal Motor Carrier Safety Administration

49 CFR Part 393

[Docket No. FMCSA-2005-21259]

RIN 2126-AA88

Parts and Accessories Necessary for Safe Operation; Protection Against Shifting and Falling Cargo; Correction

AGENCY: Federal Motor Carrier Safety Administration (FMCSA), DOT.

ACTION: Notice of proposed rulemaking (NPRM) and request for comments; Correction.

SUMMARY: The FMCSA published a notice of proposed rulemaking (NPRM) in the Federal Register on June 8, 2005, concerning request for comments on proposed revisions to the cargo securement requirements. The NPRM contained an incorrect docket number in which comments must be received.

FOR FURTHER INFORMATION CONTACT: Mr. Larry W. Minor, Director, Office of Bus and Truck Standards and Operations (MC-PS), Federal Motor Carrier Safety Administration; (202) 366-4009.

Correction

In proposed rule document 05-11332, in the June 8, 2005 Federal Register [70 FR 33430], correct the ADDRESSES section, introductory text, to read:

ADDRESSES: You may submit comments identified by DOT DMS Docket Number FMCSA-2005-21259 * * *.

Issued: June 16, 2005.
Annette M. Sandberg,
Administrator.

[FR Doc. 05-12442 Filed 6-22-05; 8:45 am]

BILLING CODE 4910-EX-P